DEPARTMENT OF DEFENSE

Department of the Army

[Docket ID: USA-2019-HQ-0022]

Proposed Collection; Comment Request

AGENCY: U.S. Army Corps of Engineers, DoD.

ACTION: Information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 26, 2019.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the US Army Corps of Engineers, Charleston District, ATTN: George E. Ebai, 69A Hagood Avenue, Charleston, SC 29403; call at 843-329-8068; or email at george.e.ebai@usace.army.mil.

SUPPLEMENTARY INFORMATION:

Title; Associated Form; and OMB Number: 2019 Agricultural Shipper Transportation Needs Survey—Ohio River System; OMB Control Number 0710-XXXX.

Needs and Uses: The information collection requirement is necessary to determine National Economic Development (NED) benefits and recreation values for five recreation sites, including Miami-Dade County FL, Pinellas County FL, Collier County FL, Folly Beach SC, and San Juan Coast Line, PR. As part of this investigation, the Corps will evaluate the existing recreation demand and tourism opportunities provided by each project. The proposed methodology (design) involves an onsite intercept survey of eligible recreationist to collect data on recreational trips and activities within the region, state, and nation. The models will be used to produce empirical estimates of economic value of beach replenishment.

Affected Public: Individuals or Households.

Annual Burden Hours: 1,125.

Number of Respondents: 4,500.

Responses per Respondent: 1.

Annual Responses: 4,500.

Average Burden per Response: 15 minutes.

Frequency: On occasion.

Respondents are public visitors to US Army Corps of Engineers Recreation Areas. Visitors exiting the recreation area by vehicle are stopped as potential respondents. Participation is voluntary. Respondents are asked questions in the following categories; characteristics of visit, number of people in the vehicle, description of overnight stay, activity participation, number of trips, income level, age group, sex, and parking facilities.

The onsite survey at the project beaches will focus on users, visit intensity, and preferences for site quality. Survey will collect recent historical trip decisions, contingent behavior (CB) responses describing how visitation might change with site quality (e.g. loss of beach due to erosion; increasing beach area due to replenishment), and stated preference responses designed to assess support for beach management policy.

Dated: June 20, 2019.
Morgan E. Park,
Alternate OSD Federal Register Liaison Officer, Department of Defense.

[FR Doc. 2019-13461 Filed 6-24-19; 8:45 am]

BILLING CODE 5001-06-P